DEPARTMENT OF THE TREASURY

Submission for OMB Review; Comment Request

March 13, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 21, 2008 to be assured of consideration.

Alcohol and Tobacco Tax and Trade Bureau (TTB)

OMB Number: 1513-XXXX.

Type of Review: New Collection.

Title: Records to support tax free and tax overpayment sales of firearms and ammunition.

Forms: TTB F 5600.33, 5600.34, 5600.35, 5600.36, 5600.37.

Description: Industry Members are required to maintain certain records in accordance with regulations. TTB offers forms that ensure that all of the information required by regulations is accounted for, when completed. The information collected on the forms serve as a record to justify the sales to exempt users, exportation, or use for further manufacture of articles.

Respondents: Businesses or other for-profit institutions.

Estimated Total Burden Hours: 52,500 hours.

OMB Number: 1513-0034.

Type of Review: Revision.

Title: Schedule of Tobacco Products, Cigarette Papers or Tubes Withdrawn from the Market.

Form: TTB F 5200.7.

Description: TTB F 5200.7 is used by persons who intend to withdraw tobacco products from the market for which the taxes has already been paid or determined. The form describes the products that are to be withdrawn to determine the amount of tax to be claimed later as a tax credit or refund. The form notifies TTB when withdrawal or destruction is to take place, and TTB may elect to supervise withdrawal or destruction.

Respondents: Business and other for profits.

Estimated Total Burden Hours: 900 hours.

OMB Number: 1513-0062.

Type of Review: Revision.

Title: Usual and Customary Business Records Relating to Denatured Spirits TTB REC 5150/1.

Description: Denatured Spirits are used for non-beverage industrial purposes in the manufacture of personal household products. The manufacturer maintains and TTB inspects records to ensure spirits accountability. By ensuring that spirits have not been diverted to beverage use, TTB protects tax revenue and public safety. These are normal business records that the manufacturer already keeps.

Respondents: Business and other for profits.

Estimated Total Burden Hours: 1 hour.

OMB Number: 1513-0017.

Type of Review: Revision.

Title: Drawback on Beer Exported.

Form: TTB F 5130.6.

Description: When tax-paid beer is removed from a brewery and ultimately exported, the brewer exporting the beer is eligible for a drawback (refund) of Federal taxes paid. By completing this form and submitting documentation of exportation, the brewer may receive a refund of Federal taxes paid.

Respondents: Business and other for profits.

Estimated Total Burden Hours: 5,000 hours.

Clearance Officer: Frank Foote, (202) 927-9347, Alcohol and Tobacco Tax and Trade Bureau, Room 200 East, 1310 G. Street, NW., Washington, DC 20005.

OMB Reviewer: Alexander T. Hunt, (202) 395-7316, Office of Management and Budget, Room 10235, New Executive Office Building, Washington, DC 20503.

Robert Dahl,
Treasury PRA Clearance Officer.

[FR Doc. E8-5617 Filed 3-19-08; 8:45 am]

BILLING CODE 4810-31-P